DEPARTMENT OF STATE

[Public Notice 6765]

30-Day Notice of Proposed Information Collection: DS-0174, Application for Employment as a Locally Employed Staff or Family Member, OMB Control Number 1405-XXXX

ACTION: Notice of request for public comment and submission to OMB of proposed collection of information.

SUMMARY: The Department of State has submitted the following information collection request to the Office of Management and Budget (OMB) for approval in accordance with the Paperwork Reduction Act of 1995.

• Title of Information Collection: Department of State Application for Employment as a Locally Employed Staff or Family Member.

• OMB Control Number: 1405-XXXX.

• Type of Request: New Collection.

• Originating Office: Bureau of Human Resources, Office of Overseas Employment (HR/OE).

• Form Number: DS-0174.

• Respondents: Candidates seeking employment, including family members of Foreign Service, Civil Service, and uniformed service members officially assigned to the Mission and under Chief of Mission authority.

• Estimated Number of Respondents: 40,000.

• Estimated Number of Responses: 40,000.

• Average Hours per Response: 1 hour.

• Total Estimated Burden: 40,000.

• Frequency: On Occasion.

• Obligation To Respond: Required to Obtain a Benefit.

DATES: Submit comments to the Office of Management and Budget (OMB) for up to 30 days from September 18, 2009.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Frank Venson McCoy, Bureau of Human Resources, Office of Overseas Employment, U.S. Department of State, Washington, DC 20520 who may be reached on 703-820-5155 or at mccoyfv@state.gov.

SUPPLEMENTARY INFORMATION:

We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The DS-0174, Application for Employment as a Locally Employed Staff or Family Member, is needed to meet information collection requirements for recruitments conducted at approximately 170 U.S. embassies and consulates throughout the world. Current employment application forms do not meet the unique requirements of Mission recruitment (e.g., language skills and hiring preferences) under the FS Act of 1980 and 22 U.S.C. 2669. The DS-0174 is needed to improve data gathering and to clarify interpretation of candidate responses.

Methodology

Candidates for employment use the DS-0174 to apply for Mission-advertised positions throughout the world. Mission recruitments generate approximately 40,000 applications per year. Data that HR and hiring officials extract from the DS-0174 determine eligibility for employment, qualifications for the position, and selections according to Federal policies.

Dated: September 10, 2009.
Ruben Torres,
Director, HR/EX, Department of State.

[FR Doc. E9-22539 Filed 9-17-09; 8:45 am]

BILLING CODE 4710-15-P